DEPARTMENT OF ENERGY

Federal Energy Regulatory Commission

[Docket No. RP07-553-000, Docket No. RP07-548-000, Docket No. RP07-549-000, Docket No. RP07-551-000, Docket No. RP07-550-000]

Algonquin Gas Transmission, LLC, East Tennessee Natural Gas, LLC., Egan Hub Storage, LLC, Maritimes & Northeast Pipeline, L.L.C., Texas Eastern Transmission, LP; Notice of Proposed Changes In FERC Gas Tariff

August 6, 2007.

Take notice that the above-referenced pipelines tendered for filing their tariff sheets respectively, to become effective September 1, 2007.

The above-referenced pipelines states that the purpose of their filings is to: (1) Modify section 32 of the general terms and conditions (GT&C) to their tariffs and to further streamline and improve the procedures for obtaining access to the LINK® System; (2) make minor modifications to the Form of Service Agreements for the LINK® System (LINK® System Agreement); and (3) modify GT&C Section 32.1(a) and the LINK® System Agreement to reflect the addition of Saltville Gas Storage Company L.L.C. as a party to the agreement.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed in accordance with the provisions of Section 154.210 of the Commission's regulations (18 CFR 154.210). Anyone filing an intervention or protest must serve a copy of that document on the Applicant. Anyone filing an intervention or protest on or before the intervention or protest date need not serve motions to intervene or protests on persons other than the Applicant.

Any person desiring to become a party in any of the listed dockets must file a separate motion to intervene in each docket for which they wish party status.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-15652 Filed 8-9-07; 8:45 am]

BILLING CODE 6717-01-P